DEPARTMENT OF HOMELAND SECURITY

Coast Guard

33 CFR Part 165

[USCG-2009-0666]

Safety Zone; Milwaukee Harbor, Milwaukee, WI

AGENCY: Coast Guard, DHS.

ACTION: Notice of enforcement of regulation.

SUMMARY: The Coast Guard will enforce the safety zone for Milwaukee Harbor for annual fireworks events in the Captain of the Port Lake Michigan zone from 9:30 p.m. on August 8, 2009, through 10 p.m. on September 12, 2009. This action is necessary and intended to ensure safety of life on the navigable waters immediately prior to, during, and immediately after the fireworks events. During the enforcement period, no person or vessel may enter the safety zone without permission of the Captain of the Port Lake Michigan.

DATES: The regulations in 33 CFR 165.935 will be enforced from 9:30 p.m. through 10 p.m. on August 8, 2009; from 10:15 p.m. through 10:45 p.m. on August 16, 2009; from 9:30 p.m. through 10 p.m. on August 21, 2009; and from 9:30 p.m. through 10 p.m. on September 11-12, 2009.

FOR FURTHER INFORMATION CONTACT: If you have questions on this notice, call or e-mail BM2 Adam Kraft, Prevention Department, Coast Guard Sector Lake Michigan, Milwaukee, WI; telephone 414-747-7154, e-mail Adam.D.Kraft@uscg.mil.

SUPPLEMENTARY INFORMATION: The Coast Guard will enforce the Safety Zone, Milwaukee Harbor, Milwaukee, WI, as listed in 33 CFR 165.935 for the following events, dates, and times:

(1) Arab World Fest fireworks display on August 8, 2009, from 9:30 p.m. through 10 p.m.;

(2) Irish Fest fireworks display on August 16, 2009, from 10:15 p.m. through 10:45 p.m.;

(3) Mexican Fiesta fireworks display on August 21, 2009, from 9:30 p.m. through 10 p.m.; and

(4) Indian Summer fireworks display on September 11-12, 2009, from 9:30 p.m. through 10 p.m.

All vessels must obtain permission from the Captain of the Port or a designated on-scene representative to enter, move within, or exit the safety zone. Vessels and persons granted permission to enter the safety zone shall obey all lawful orders or directions of the Captain of the Port or a designated representative. While within a safety zone, all vessels shall operate at the minimum speed necessary to maintain a safe course.

This notice is issued under authority of 33 CFR 165.935 Safety Zone, Milwaukee Harbor, Milwaukee, WI, and 5 U.S.C. 552(a). In addition to this notice in the Federal Register, the Coast Guard will provide the maritime community with advance notification of these enforcement periods via broadcast Notice to Mariners or Local Notice to Mariners. The Captain of the Port will issue a Broadcast Notice to Mariners notifying the public when enforcement of the safety zone established by this section is suspended. The Captain of the Port or the designated on-scene representative may be contacted via VHF-FM Channel 16.

Dated: July 16, 2009.
L. Barndt,
Captain, U.S. Coast Guard, Captain of the Port Lake Michigan.

[FR Doc. E9-18161 Filed 7-29-09; 8:45 am]

BILLING CODE 4910-15-P